DEPARTMENT OF THE INTERIOR

Bureau of Ocean Energy Management

[MMAA104000]

Final Programmatic Environmental Impact Statement for the 2017-2022 Outer Continental Shelf (OCS) Oil and Gas Leasing Program

AGENCY: Bureau of Ocean Energy Management (BOEM), Interior.

ACTION: Notice of availability.

SUMMARY: BOEM announces the availability of the Final 2017-2022 OCS Oil and Gas Leasing Program Programmatic Environmental Impact Statement (Programmatic EIS) to inform the 2017-2022 Proposed Final Program. The Final Programmatic EIS provides a discussion of potential impacts of the proposed action, provides an analysis of reasonable alternatives to the proposed action, and recognizes BOEM's preferred alternative. Under Council on Environmental Quality (CEQ) regulations at 40 CFR 1506.10(b)(2), the Secretary of the Interior will not finalize the 2017-2022 OCS Oil and Gas Leasing Program until at least 30 days after publication of the Final Programmatic EIS.

FOR FURTHER INFORMATION CONTACT: Jill Lewandowski, Ph.D., Bureau of Ocean Energy Management, 45600 Woodland Road VAM-OEP, Sterling, VA 20166. Dr. Lewandowski may also be reached by telephone at (703) 787-1703.

SUPPLEMENTARY INFORMATION: A Draft Programmatic EIS was published on March 18, 2016, with a 45-day public comment period that ended on May 2, 2016. BOEM considered all comments submitted on the Draft Programmatic EIS during preparation of the Final Programmatic EIS. Persons interested in obtaining the Final Programmatic EIS, OCS EIS/EA BOEM 2016-060, can download it from www.boemoceaninfo.com, or may contact BOEM at the address and phone number provided above to request a paper copy or a CD-ROM version. Please specify if you wish a CD-ROM or paper copy. If neither is specified, a CD-ROM containing the Final Programmatic EIS will be provided. The Final Programmatic EIS will also be available at libraries in states adjacent to the proposed lease sales. These libraries are listed at www.boemoceaninfo.com.

Authority: This Notice of Availability of a Final Programmatic EIS is in compliance with the National Environmental Policy Act of 1969, as amended (Pub. L. 91-190, 42 U.S.C. 4231 et seq.), and is published pursuant to 40 CFR 1506.6.

Dated: November 3, 2016.
Abigail Ross Hopper,
Director, Bureau of Ocean Energy Management.

[FR Doc. 2016-28249 Filed 11-21-16; 8:45 am]

BILLING CODE 4310-MR-P